DEPARTMENT OF DEFENSE

Defense Logistics Agency

Privacy Act of 1974; Systems of Records

AGENCY: Defense Logistics Agency, DoD.

ACTION: Notice to alter a system of records.

SUMMARY: The Defense Logistics Agency proposes to alter a system of records notice in its inventory of record systems subject to the Privacy Act of 1974 (5 U.S.C. 552a), as amended.

DATES: This action will be effective without further notice on March 28, 2002, unless comments are received that would result in a contrary determination.

ADDRESSES: Send comments to the Privacy Act Officer, Headquarters, Defense Logistics Agency, ATTN: DSS-C, 8725 John J. Kingman Road, Suite 2533, Fort Belvoir, VA 22060-6221.

FOR FURTHER INFORMATION CONTACT: Ms. Susan Salus at (703) 767-6183.

SUPPLEMENTARY INFORMATION: The Defense Logistics Agency notices for systems of records subject to the Privacy Act of 1974 (5 U.S.C. 552a), as amended, have been published in the Federal Register and are available from the address above.

The proposed system report, as required by 5 U.S.C. 552a(r) of the Privacy Act of 1974, as amended, was submitted on February 15, 2002, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: February 20, 2002.
Patricia L. Toppings,
Alternate OSD Federal Register Liaison Officer, Department of Defense.

S500.50 CA

System name:

Access and Badging Records (July 13, 2000, 65 FR 43301).

Changes:

* * * * *

System identifier:

Delete “CA” from entry.

* * * * *

Categories of records in the system:

In the second sentence, delete “address” and replace with “physical and electronic home addresses” and delete “date of birth” and replace with “date and place of birth.” In addition, add “blood type (for military members); fingerprint data;” after “eye color.”

* * * * *

Purpose(s):

Add “police force and” before “security personnel” in first sentence.

* * * * *

S500.50

System name:

Access and Badging Records.

System location:

Staff Director, Office of Command Security, Headquarters Defense Logistics Agency, ATTN: DSS-S, 8725 John J. Kingman Road, Suite 2533, Fort Belvoir, VA 22060-6221, and the Defense Logistics Agency Primary Level Field Activities. Official mailing addresses are published as an appendix to DLA’s compilation of systems of records notices.

Visitor security clearance data is also maintained by the Chief, Internal Review Group, Headquarters Defense Logistics Agency, ATTN: J-308, 8725 John J. Kingman Road, Suite 2533, Fort Belvoir, VA 22060-6221.

Categories of individuals covered by the system:

Defense Logistics Agency (DLA) civilian and military personnel, contractor employees, and individuals requiring access to DLA-controlled installations, facilities, or computer systems.

Categories of records in the system:

System contains documents relating to requests for and issuance of facility entry badges and passes, motor vehicle registration, and access to DLA computer systems or databases. The records contain the individual's name; physical and electronic home addresses; Social Security Number; date and place of birth; a DLA-assigned bar code number; dates and times of building entry; current photograph; physical descriptors such as height, hair color, and eye color; blood type (for military members); fingerprint data; handicap data; computer logon addresses, passwords, and user identification codes; security clearance data; personal vehicle description to include year, make, model, and vehicle identification number; state tag data; operator's permit data; inspection and insurance data; vehicle decal number; parking lot assignment; and parking infractions.

Authority for maintenance of the system:

5 U.S.C., Chapter 3, Powers; 5 U.S.C. 6122, Flexible schedules, agencies authorized to use; 5 U.S.C. 6125, Flexible schedules, time recording devices; 10 U.S.C. 133, Under Secretary of Defense for Acquisition and Technology; 18 U.S.C. 1029, Access device fraud; 18 U.S.C. 1030, Computer fraud; 23 U.S.C. 401 et seq., National Highway Safety Act of 1966; E.O. 9397 (SSN); and E.O. 10450 (Security Requirements for Government Employees).

Purpose(s):

Information is maintained by DLA police force and security personnel to control access onto DLA-managed installations and activities; access into DLA-controlled buildings and facilities, and access to DLA computer systems or databases.

Data is also used to manage reserved, handicap, and general parking. Clearance data is also used by the DLA Internal Review Group to control access to sensitive records.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of DLA's compilation of systems of records notices apply to this system.

Policies and practices for storing, retrieving, accessing, retaining, and disposing of records:

Storage:

Records are stored in paper and electronic form.

Retrievability:

Retrieved by name, Social Security Number, bar code number, or decal number.

Safeguards:

Records are maintained in secure, limited access, or monitored work areas accessible only to authorized DLA personnel.

Retention and disposal:

Vehicle registration records are destroyed when superseded or upon normal expiration or 3 years after revocation; Individual badging and pass records are destroyed upon cancellation or expiration or 5 years after final action to bar from facility.

Database access records are maintained for the life of the employee and destroyed 1 year after employee departs. Visitor and temporary passes, permits, and registrations are destroyed 2 years after final entry or 2 years after date of document, as appropriate.

System manager(s) and address:

Staff Director, Command Security, Defense Logistics Agency, 8725 John J. Kingman Road, Suite 2533, Fort Belvoir, VA 22060-6221, and the Commanders of the Defense Logistics Agency Primary Level Field Activities (PLFAs). Official mailing addresses are published as an appendix to DLA's compilation of systems of records notices.

Notification procedure:

Individuals seeking to determine whether this system of records contains information about themselves should address written inquiries to the Privacy Act Officer, Headquarters Defense Logistics Agency, DSS-C, 8725 John J. Kingman Road, Suite 2533, Fort Belvoir, VA 22060-6221, or the Privacy Act Officer of the PLFA involved. Official mailing addresses are published as an appendix to DLA's compilation of systems of records notices.

Record access procedures:

Individuals seeking to access records about themselves contained in this system of records should address written inquiries to the Privacy Act Officer, Headquarters Defense Logistics Agency, DSS-C, 8725 John J. Kingman Road, Suite 2533, Fort Belvoir, VA 22060-6221, or the Privacy Act Officer of the PLFA involved. Official mailing addresses are published as an appendix to DLA's compilation of systems of records notices.

Contesting record procedures:

The DLA rules for accessing records, for contesting contents and appealing initial agency determinations are contained in DLA Regulation 5400.21, 32 CFR part 323, or may be obtained from the Privacy Act Officer, Headquarters, Defense Logistics Agency, ATTN: DSS-C, 8725 John J. Kingman Road, Suite 2533, Fort Belvoir, VA 22060-6221.

Record source categories:

Information is supplied by security personnel and by individuals applying for access to DLA controlled installations, facilities, or databases.

Exemptions claimed for the system:

None.

[FR Doc. 02-4467 Filed 2-25-02; 8:45 am]

BILLING CODE 5001-08-P